DEPARTMENT OF DEFENSE

Office of the Secretary

[Transmittal No. 23-43]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-43, Policy Justification, and Sensitivity of Technology.

Dated: October 15, 2024.
Aaron T. Siegel,
Alternate OSD Federal Register Liaison Officer, Department of Defense.

BILLING CODE 6001-FR-P

Transmittal No. 23-43

Notice of Proposed Issuance of Letter of Offer Pursuant to Section 36(b)(1) of the Arms Export Control Act, as amended

(i) Prospective Purchaser: Government of France

(ii) Total Estimated Value:

Major Defense Equipment * | $200 million
Other | $ 3 million
TOTAL | $203 million

(iii) Description and Quantity or Quantities of Articles or Services under Consideration for Purchase:

Major Defense Equipment (MDE):

Up to one thousand five hundred fifteen (1,515) AGM-114R2 Hellfire Missiles

Non-MDE:

Also included is technical assistance, non-standard books, publications, other Hellfire publications, integration support, and other related elements of logistical and program support.

(iv) Military Department: Army (FR-B-WAX)

(v) Prior Related Cases, if any: FR-B-WAA, FR-B-WAR

(vi) Sales Commission, Fee, etc., Paid, Offered, or Agreed to be Paid: None known at this time

(vii) Sensitivity of Technology Contained in the Defense Article or Defense Services Proposed to be Sold: See Attached Annex

(viii) Date Report Delivered to Congress: July 7, 2023

* As defined in Section 47(6) of the Arms Export Control Act.

POLICY JUSTIFICATION

France—Hellfire Missiles

The Government of France has requested to buy up to one thousand five hundred fifteen (1,515) AGM-114R2 Hellfire Missiles. Also included is technical assistance, non-standard books, publications, other Hellfire publications, integration support, and other related elements of logistical and program support. The estimated total cost is $203 million.

This proposed sale will support the foreign policy and national security objectives of the United States by helping to improve the security of a NATO Ally that is an important force for political stability and economic progress in Europe.

The proposed sale will improve France's capability to meet current and future threats by building its long-term capacity to defend its sovereignty and territorial integrity in order to meet its national defense requirements. France will have no difficulty absorbing this equipment into its armed forces.

The proposed sale of this equipment and support will not alter the basic military balance in the region.

The prime contractor will be Lockheed Martin Corporation, Orlando, FL. There are no known offset agreements in connection with this potential sale.

Implementation of this proposed sale will not require the assignment of U.S. Government or contractor representatives to France.

There will be no adverse impact on U.S. defense readiness as a result of this proposed sale.

Transmittal No. 23-43

Notice of Proposed Issuance of Letter of Offer Pursuant to Section 36(b)(1) of the Arms Export Control Act

Annex

Item No. vii

(vii) Sensitivity of Technology:

1. The AGM-114R2 Hellfire Missile, National Stock Number 1410-01-684-2609, is used against heavy and light armored targets, thin skinned vehicles, urban structures, bunkers, caves, and personnel. The missile is Inertial Measurement Unit (IMU) based, with a variable delay fuse and improved safety and reliability.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that the France can provide substantially the same degree of protection for the sensitive technology being released as the U.S. Government. This proposed sale is necessary to further the U.S. foreign policy and national security objectives outlined in the Policy Justification.

5. All defense articles and services listed in this transmittal are authorized for release and export to the Government of France.

[FR Doc. 2024-24120 Filed 10-17-24; 8:45 am]

BILLING CODE 6001-FR-C